DEPARTMENT OF HOUSING AND URBAN DEVELOPMENT

[Docket No. FR-4737-N-03]

Notice of Proposed Information Collection or Public Comment: Telephone Survey of Sponsor/Managers of HUD-Assisted Properties Housing People With Disabilities Regarding Property Size and Type, Resident Characteristics, and Program Operations

AGENCY: Office of Policy Development and Research, HUD.

ACTION: Notice.

SUMMARY: The proposed information collection requirement described below will be submitted to the Office of Management and Budget (OMB) for review, as required by the Paperwork Reduction Act. The Department is soliciting public comment on the subject proposal.

DATES: Comments Due Date: August 2, 2002.

ADDRESSES: Interested persons are invited to submit comments regarding this proposal. Comments should refer to the proposal by name and/or OMB Control Number and should be sent to: Reports Liaison Officer, Office of Policy Development & Research, Department of Housing and Urban Development, 451 7th Street, SW, Room 8228, Washington, DC 20410.

FOR FURTHER INFORMATION CONTACT: Cheryl A. Levine, Program Evaluation Division, Office of Policy Development and Research, Department of Department of Housing and Urban Development, 451 7th Street, SW, Room 8140, Washington, DC 20410; telephone (202) 708-3700, extension 3928; e-mail cheryl_a._Levine@hud.gov. This is not a toll free number. Copies the proposed forms and other available documents submitted to OMB may be obtained from Ms. Levine.

SUPPLEMENTARY INFORMATION: The Department of Housing and Urban Development will submit the proposed information collection package to OMB for review as required by the Paperwork Reduction Act of 1995 (44 U.S.C. Chapter 35, as amended).

This Notice is soliciting comments from members of the public and affected agencies concerning the proposed collection of information to: (1) Evaluate whether the proposed collection of information is necessary for the proper performance of the function of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Telephone survey of sponsor/managers of HUD-assisted properties housing people with disabilities regarding property size and type, resident characteristics, and program operations.

OMB Control Number:

Description of the need for the information and proposed use: The information to be collected is part of a larger study, mandated by Congress and conducted by Abt Associates Inc., of the social and economic benefits and problems of providing housing for people with disabilities in projects of varying sizes. Specifically, the study will look at HUD's Section 811 and Section 202 programs and will explore how project size influences the properties, their residents, and the immediate neighborhoods. The telephone survey of sponsor/managers will administered to a nationally representative sample of Section 811 and 202 property sponsor/managers. The topics will include project and resident characteristics, services offered on site, off-site services available to residents, other links between the project and the surrounding neighborhood, factors that contribute to development and operating costs, and opinions on how project scale relates to costs, access to services, acceptance by the community, and residents' quality of life. This information is not currently available from any other source. The data will be compiled in a database for analysis for the study's final report. This research is intended to help HUD respond to Congress' interest in project scale and, more broadly, to explore effective project-based housing solutions for low-income people with disabilities.

Members of affected public: Sponsor/managers of Section 811 and Section 202 properties.

Estimation of the total number of hours needed to prepare the information collection, including the number of respondents, frequency of response, and hours of response:

Types of respondents | Number of respondents | Number of responses | Minutes per respondent | Total burden hours
Sponsor/managers of Section 811 and 202 projects | 150 | 1 | 50 | 125

Status of the proposed information collection: Pending OMB approval.

Authority: The paperwork Reduction Act of 1995, 44 U.S.C. Chapter 35, as amended; and section 8(C)(1) of the United States Housing Act of 1937.

Dated: May 21, 2002.
Lawrence L. Thompson,
General Deputy Assistant Secretary for Policy Development and Research.

[FR Doc. 02-13835 Filed 5-31-02; 8:45 am]

BILLING CODE 4210-62-M